DEPARTMENT OF HEALTH AND HUMAN SERVICES

Indian Health Service

Tribal Self-Governance Program Negotiation Cooperative Agreement; Correction

ACTION: Notice; correction.

SUMMARY: The Indian Health Service published a document in the Federal Register (FR) on March 31, 2008. The document contained three errors.

FOR FURTHER INFORMATION CONTACT: Matt Johnson, Office of Tribal Self-Governance, Indian Health Service, 801 Thompson Avenue, Suite 240, Rockville, MD 20852, Telephone (301) 443-1982. (This is not a toll-free number.)

Correction

In the Federal Register of March 31, 2008, in FR Doc. E8-6428, on page 16871, in the second column, under III. Eligibility Information, 3. Other Requirements, Letter C., change Friday April 25, 2008 to Tuesday, May 6, 2008, and in the following sentence change April 25, 2008 to May 6, 2008; and on page 16874, in the second column, first paragraph, change matthew.johnson@ihs,gov to matthew.johnson@ihs.gov.

Dated: April 18, 2008.
Robert G. McSwain,
Acting Director, Indian Health Service.

[FR Doc. E8-9250 Filed 4-28-08; 8:45 am]

BILLING CODE 4165-16-M